DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Export Administration (BXA).

Title: National Defense Authorization Act (NDAA).

Agency Form Number: BXA-742R, BXA-742S.

OMB Approval Number: 0694-0107.

Type of Request: Extension of a currently approved collection of information.

Burden: 35 hours.

Average Time Per Response: 15 minutes per response.

Number of Respondents: 140 respondents.

Needs and Uses: This collection of information is required as the result of the amending of the Export Administration Regulations (15 CFR parts 730-799) (EAR) by revising the (EAR) requirements for exports and reexports contained in sections 1211-1215 of the National Defense Authorization Act (NDAA) for fiscal year 1998 (Pub. L. 105-85, 111 Stat. 1629), signed by the President on November 18, 1997. The Bureau of Export Administration (BXA) needs the information in this collection to fulfill two requirements of the National Defense Authorization Act for Fiscal Year 1998 (NDAA). Those requirements are: (1) Proposed exports and reexports of high performance computers to specific countries must be reviewed by enumerated government agencies prior to the export and (2) that the government conduct a “post shipment verification” of each high performance computer exported to those countries after November 17, 1997. Both of these requirements are new and were imposed by the Congress with the passage of the NDAA. To simplify the latter, BXA has developed a new form that will incorporate the relevant data elements and replace the written report, thereby standardizing the data format for the applicant, and enabling the use of information technology in the processing of the data.

Affected Public: Individuals, businesses or other for-profit institutions.

Respondent's Obligation: Mandatory.

OMB Desk Officer: David Rostker.

Copies of the above information collection proposal can be obtained by calling or writing Madeleine Clayton, DOC Paperwork Clearance Officer, (202) 482-3129, Department of Commerce, Room 6086, 14th and Constitution Avenue, NW., Washington, DC 20230.

Written comments and recommendations for the proposed information collection should be sent within 30 days of publication of this notice to David Rostker, OMB Desk Officer, Room 10202, New Executive Office Building, Washington, DC 20230.

Dated: January 10, 2002.
Madeleine Clayton,
Departmental Paperwork Clearance Officer, Office of the Chief Information Officer.

[FR Doc. 02-1040 Filed 1-15-02; 8:45 am]

BILLING CODE 3510-DT-P